DEPARTMENT OF TRANSPORTATION

Federal Aviation Administration

Notice of Intent To Request Renewal From the Office of Management and Budget (OMB) of Nine Current Public Collections of Information

AGENCY: Federal Aviation Administration (FAA), DOT.

ACTION: Notice.

SUMMARY: In compliance with the Paperwork Reduction Act (44 U.S.C. 3501 et seq.), the FAA invites public comment on nine currently approved public information collections which will be submitted to OMB for renewal.

DATES: Comments must be received on or before January 14, 2002.

ADDRESSES: Comments may be mailed or delivered to the FAA at the following address: Ms. Judy Street, Room 613, Federal Aviation Administration, Standards and Information Division, APF-100, 800 Independence Ave., SW., Washington, DC 20591.

FOR FURTHER INFORMATION CONTACT: Ms. Judy Street at the above address or on (202) 267-9895.

SUPPLEMENTARY INFORMATION: In accordance with the Paperwork Reduction Act of 1995, an agency may not conduct or sponsor, and a person is not required to respond to a collection of information unless it displays a currently valid OMB control number. Therefore, the FAA solicits comments on the following current collections of information in order to evaluate the necessity of the collection, the accuracy of the agency's estimate of the burden, the quality, utility, and clarity of the information to be collected, and possible ways to minimize the burden of the collection in preparation for submission to renew the clearances of the following information collections.

1. 2120-0024, Dealer's Aircraft Registration Certificate Application. An individual or company engaged in manufacturing, distributing, or selling aircraft who wants to fly those aircraft with a dealer's certificate must fill out an application to provide a basis for the issuance of such certificates. A conveyance examiner with the FAA Aircraft Registry reviews the application to ensure that it is completely and properly filled out. The current estimated annual reporting burden is 2,187 hours.

2. 2120-0042, Aircraft Registration. The information requested is used by the FAA to register an aircraft or hold an aircraft in trust. The information required to register and prove ownership of an aircraft is required by any person wishing to register an aircraft. The current annual reporting burden is 67,153 hours.

3. 2120-0063, Certification of Airports. To operate certain air carriers, a person must obtain and maintain an Airport Operating Certificate. The application initiates the certification process, including airport inspection and documentation of safe airport operations and equipment. The certification remains valid if safety standards are maintained as verified by inspections, records, and reports. The current estimated annual reporting burden is 174,151 hours.

4. 2120-0514, War Risk Insurance. The FAA requires the information submitted by applicants for Chapter 443 insurance to determine the reasonableness of the terms and conditions on which commercial insurance is available, assess the risks for which insurance coverage is being sought, and determine what risks of aircraft operators are customarily covered by insurance. The requested information is included in air carriers' applications for insurance when insurance is not available from private sources. The current estimated annual reporting burden is 68 hours.

5. 2120-0570, Simulator Rule/14 CFR Part 142, Certified Training Centers. To determine regulatory compliance, there is a need for airmen to maintain records of certain training and recentness of experience; there is a need for training centers to maintain records of students trained, employee qualification and training, and training program approvals. Information is used to determine compliance with airmen certification and testing standards to ensure safety. The current estimated annual reporting burden is 6,000 hours.

6. 2120-0595, Federal Acquisition Administration Acquisition Management System (FAAAMS). The collection of information requirements arise from various sections of FAAAMS. Pursuant to section 348 of Public Law 104-50, this information is required to carry out the provisions of the newly reformed FAA acquisition process. Information is used to acquire, award, and administer contracts. The current estimated annual reporting burden is 170,073 hours.

7. 2120-0641, Parachute Accident Reporting. 14 CFR part 105 prescribes the packing of main and auxiliary parachutes used for sport jumping. This information is used by the FAA for recommendations for equipment changes, operating procedures, or training to aid aviation safety inspectors in accident prevention and surveillance. The FAA is better able to monitor trends that lead to accidents/incidents and provide the necessary guidance to avert such tragedies. The current estimated annual reporting burden is 44 hours.

8. 2120-0642, NPRM “Security of Checked Baggage on Flights Within the United States”. In accordance federal regulations governing the security of part 108 air carrier operations and the recommendation of the Department of Justice, air carriers provide information regarding procedures to be used in carrying out their responsibilities under the law to protect persons and property on an aircraft operating in air transportation, intrastate air transportation, and flights to and from the United States against acts of criminal violence and aircraft safety. The current estimated annual reporting burden is 5,045 hours.

9. 2120-0643, Commercial Space Transportation Reusable Launch Vehicle Reentry Licensing Regulations. The required information, that is, data required for performing a safety review, is used to determine whether applicants satisfy requirements for obtaining a launch license to protect the public from risks associated with reentry operations from a site not operated by or situated on a Federal launch range. The respondents are those applying for a launch site license. The current estimated annual reporting burden is 4,384 hours.

Issued in Washington, DC, on November 6, 2001.
Steve Hopkins,
Manager, Standards and Information Division, APF-100.

[FR Doc. 01-28499 Filed 11-13-01; 8:45 am]

BILLING CODE 4910-13-M